DEPARTMENT OF THE INTERIOR

U.S. Geological Survey

[GX16GG00995TR00]

Announcement of Scientific Earthquake Studies Advisory Committee Meeting

AGENCY: U.S. Geological Survey, Department of the Interior.

ACTION: Notice of meeting

SUMMARY: Pursuant to Public Law 106-503, the Scientific Earthquake Studies Advisory Committee (SESAC) will hold its next meeting in the Utah Department of Natural Resources Auditorium at the Utah Department of Natural Resources at 1594 West North Temple in Salt Lake City, Utah. The Committee is comprised of members from academia, industry, and State government. The Committee shall advise the Director of the U.S. Geological Survey (USGS) on matters relating to the USGS's participation in the National Earthquake Hazards Reduction Program.

The Committee will receive reports on the status of activities of the Program and progress toward Program goals and objectives. The Committee will assess this information and provide guidance on the future undertakings and direction of the Earthquake Hazards Program. Focus topics for this meeting include a program review and strategic planning for 2016-2018.

DATES: The meeting will be held from 9:00 a.m. to 5:00 p.m. on February 4 and 5, 2016.

FOR FURTHER INFORMATION CONTACT: Dr. William Leith, U.S. Geological Survey, MS 905, 12201 Sunrise Valley Drive, Reston, Virginia 20192, (703) 648-6786, wleith@usgs.gov.

SUPPLEMENTARY INFORMATION: Meetings of the Scientific Earthquake Studies Advisory Committee are open to the public.

William Leith,
Senior Science Advisor for Earthquake and Geologic Hazards.

[FR Doc. 2015-32608 Filed 12-24-15; 8:45 am]

BILLING CODE 4338-11-P